DEPARTMENT OF THE INTERIOR

National Park Service

[2253-665]

Notice of Intent to Repatriate Cultural Items: Rochester Museum & Science Center, Rochester, NY

AGENCY: National Park Service, Interior.

ACTION: Notice.

SUMMARY: The Rochester Museum & Science Center, in consultation with the appropriate Indian tribe, has determined that the cultural items meet the definition of both sacred objects and objects of cultural patrimony and repatriation to the Indian tribe stated below may occur if no additional claimants come forward. Representatives of any Indian tribe that believes itself to be culturally affiliated with the cultural items may contact the Rochester Museum & Science Center.

DATES: Representatives of any Indian tribe that believes it has a cultural affiliation with the cultural items should contact the Rochester Museum & Science Center at the address below by May 2, 2012.

ADDRESSES: Adele DeRosa, Rochester Museum & Science Center, 657 East Avenue, Rochester, NY 14607, telephone (585) 271-4552 x 302.

SUPPLEMENTARY INFORMATION: Notice is here given in accordance with the Native American Graves Protection and Repatriation Act (NAGPRA), 25 U.S.C. 3005, of the intent to repatriate cultural items under the control of the Rochester Museum & Science Center that meet the definition of both sacred objects and objects of cultural patrimony under 25 U.S.C. 3001.

This notice is published as part of the National Park Service's administrative responsibilities under NAGPRA, 25 U.S.C. 3003 (d)(3). The determinations in this notice are the sole responsibility of the museum, institution or Federal agency that has control of the cultural items. The National Park Service is not responsible for the determinations in this notice.

History and Description of the Cultural Items

In 1935, the Works Progress Administration/Indian Arts Project paid members of the Seneca Nation of New York, at Cattaraugus, to create a variety of ethnographic objects. This project was directed by Arthur C. Parker, director, Rochester Museum of Arts and Sciences (now the Rochester Museum & Science Center), with the intent of both giving employment to the Seneca people and building a collection for the museum. In total, there are 79 medicine faces described in this notice, all created in 1935 under the auspices of that project.

Eighteen objects are large cornhusk medicine faces made by several individuals on the Cattaraugus Reservation: 35.266.2/AE 2681; 35.266.4/AE 2750; 35.266.5/AE 2751; 35.266.6/AE 3479; 35.266.8/AE 3483; 35.266.10/AE 3964; 35.266.11/AE 3965; 35.266.12/AE 3966; 35.340.1/AE 3242; 35.340.2/AE 3478; 35.340.3/AE 3480; 35.340.4/AE 3481; 35.340.5/AE 3621; 35.340.8/AE 4098); 77.00.68.1; 35.291.6/AE 3622; 35.320.13/AE 4194; 36.396.1/AE 4387; 35.290.1/AE 2760); 35.290.2/AE 2800; 35.290.4/AE 3462; 35.290.6/AE 4036; 35.290.7/AE 4038; 35.290.8/AE 4040; 35.290.9/AE 4044; 35.290.11/AE 4136; 35.290.13/AE 4177; and 35.290.14/AE 5706.

Fifty-eight objects are large wooden medicine faces made by several individuals on the Cattaraugus Reservation: 35.268.17/AE 3164; 35.268.18/AE 3166; 35.268.19/AE 3177; 35.268.20/AE 3333; 35.268.21/AE 3334; 35.268.22/AE 3515; 35.268.23/AE 3516; 35.268.24/AE 4027; 35.268.25/AE 4033; 35.268.26/AE 4041; 35.268.27/AE 4042; 35.268.28/AE 4043; 35.268.2/AE 4134; 35.268.29/AE 4139; 35.268.30/AE 4142; 35.268.31/AE 4143; 35.268.32/AE 5705; and 35.268.33/AE 5707; 35.280.24/AE 2847; 35.280.11/AE 2848; 35.280.13/AE 3335; 35.280.14/AE 3513; 35.280.15/AE 4034; 35.280.16/AE 4039; 35.280.17/AE 4047; 35.280.18/AE 4048; 35.280.22/AE 5727; 35.280.23/AE 5728; 35.280.21/AE 5693; 35.295.30/AE 2006 and 35. 295.31/AE 4176; 35.299.30/AE 4050 and 35.299.31/AE 4184; 35.303.1/AE 4856 and 35.303.2/AE 4857; 35.315.11/AE 5726 and 35.315.10/AE 4045; 35.285.47/AE 3517; 35.285.49/AE 4031; 35.285.52/AE 4158; 35.285.53/AE 4210; 35.285.57/AE 4214; 35.285.55/AE 5708; and 35.285.56/AE 5709; 35.288.25/AE 4137 and 35.288.26/AE 4144; 35.257.1/AE 4138; and 35.339.18/AE 3165.

Three objects are large cornhusk medicine faces made by individuals most likely on the Cattaraugus Reservation: 98.00.03.1/E 13.1.286; 98.00.04.1; and 98.00.05.1.

Traditional religious leaders of the Seneca Nation of New York have identified these medicine faces as being needed for the practice of traditional Native American religions by present-day adherents. In the course of consultations with representatives of the Seneca Nation of New York, it was shown that individuals who carved these medicine faces did not have the authority to alienate the objects to a third party, including the Rochester Museum & Science Center. Museum documentation, supported by oral evidence presented during consultation with Seneca Nation of New York representatives, indicates that these medicine faces are culturally affiliated with the Seneca Nation of New York. Museum representatives also consulted with other Haudenosaunee and non-Haudenosaunee consultants.

Determinations Made by the Rochester Museum & Science Center

Officials of the Rochester Museum & Science Center have determined that:

• Pursuant to 25 U.S.C. 3001 (3)(D), the 79 cultural items described above are specific ceremonial objects needed by traditional Native American religious leaders for the practice of traditional Native American religions by their present adherents, and have an ongoing historical, traditional, or cultural importance central to the Native American group or culture itself, rather than property owned by an individual.

• Pursuant to 25 U.S.C. 3001 (2), there is a relationship of shared group identity that can be reasonably traced between these medicine faces and the Seneca Nation of New York.

Additional Requestors and Disposition

Representatives of any other Indian tribe that believes itself to be culturally affiliated with these objects should contact Adele DeRosa, Rochester Museum & Science Center, Rochester, NY 14607, telephone (585) 271-4552 x 302, before May 2, 2012. Repatriation of these objects to the Seneca Nation of New York may proceed after that date if no additional claimants come forward.

The Rochester Museum & Science Center, Rochester, NY, is responsible for notifying the Seneca Nation of New York that this notice has been published.

Dated: March 28, 2012.
Sherry Hutt,
Manager, National NAGPRA Program.

[FR Doc. 2012-7880 Filed 3-30-12; 8:45 am]

BILLING CODE 4312-50-P